DEPARTMENT OF DEFENSE

Department of the Army

Notice of Termination of Environmental Impact Statement

AGENCY: Department of the Army, DOD.

ACTION: Notice of termination of Environmental Impact Statement (EIS).

SUMMARY: The U.S. Department of the Army (Army) is terminating an EIS addressing heat and electrical upgrades at Fort Wainwright, Alaska.

DATES: Termination is effective on the date of this notice.

FOR FURTHER INFORMATION CONTACT: Dr. David Guldenzopf, Director for Environmental Compliance and Mission Readiness, Office of the Assistant Secretary of the Army for Installations, Energy and Environment, at (703) 459-7756, david.b.guldenzopf.civ@army.mil.

SUPPLEMENTARY INFORMATION: The Department of the Army hereby provides notice of termination of the subject EIS, which was initiated by a Notice of Intent to Prepare an Environmental Impact Statement. The Notice of Intent was published in the Federal Register on July 22, 2019 (84 FR 35106). The EIS concerned potential environmental impacts associated with proposed heat and electrical upgrades at Fort Wainwright, Alaska. The Army will reevaluate the proposed action. Accordingly, the EIS initiated on July 22, 2019, is hereby terminated. The Army will cease further preparation of a Supplemental Final EIS.

(Authority: 42 U.S.C. 4321 et seq. (1969).)

James W. Satterwhite, Jr.,
U.S. Army Federal Register Liaison Officer.

[FR Doc. 2025-17972 Filed 9-16-25; 8:45 am]

BILLING CODE 3711-CC-P